DEPARTMENT OF DEFENSE

Office of the Secretary

Meeting of the National Commission on the Structure of the Air Force; Correction

AGENCY: Director of Administration and Management, DoD.

ACTION: Notice of advisory committee meeting; correction.

SUMMARY: The Department of Defense (DoD) announces a correction to its notice in the December 27, 2013 Federal Register (78 FR 78944-78946) of a Federal advisory committee meeting of the National Commission on the Structure of the Air Force (“the Commission”) on Thursday, January 9, 2014, from 11:30 a.m. to 5:00 p.m. The published agenda did not include testimony from Dr. Scott Comes, Acting Director of the Office of DoD Cost Assessment and Program Evaluation (CAPE). No public commenters appeared before the Commission. For additional information, see the Commission's Web site at http://afcommission.whs.mil.

FOR FURTHER INFORMATION CONTACT: Mrs. Marcia Moore, Designated Federal Officer, National Commission on the Structure of the Air Force, 1950 Defense Pentagon, Room 3A874, Washington, DC 20301-1950. Email: marcia.l.moore12.civ@mail.mil. Desk (703) 545-9113. Facsimile (703) 692-5625.

SUPPLEMENTARY INFORMATION:

Background

The National Commission on the Structure of the Air Force was established by the National Defense Authorization Act for Fiscal Year 2013 (Pub. L. 112-239). The Department of Defense sponsor for the Commission is the Director of Administration and Management, Office of the Secretary of Defense. The Commission is tasked to submit a report, containing a comprehensive study and recommendations, by February 1, 2014 to the President of the United States and the Congressional defense committees. The report will contain a detailed statement of the findings and conclusions of the Commission, together with its recommendations for such legislation and administrative actions it may consider appropriate in light of the results of the study. The comprehensive study of the structure of the U.S. Air Force will determine whether, and how, the structure should be modified to best fulfill current and anticipated mission requirements for the U.S. Air Force in a manner consistent with available resources.

Dated: January 14, 2014.
Aaron Siegel,
Alternate OSD Federal Register Liaison Officer, Department of Defense.

[FR Doc. 2014-00903 Filed 1-16-14; 8:45 am]

BILLING CODE 5001-06-P